DEPARTMENT OF COMMERCE

International Trade Administration

Water Infrastructure Business Development Mission to Singapore, Vietnam, and the Philippines

July 14-22, 2016.

AGENCY: International Trade Administration, Department of Commerce.

ACTION: Notice.

SUMMARY: The United States Department of Commerce, International Trade Administration (ITA), is organizing an Executive-led Water Infrastructure Business Development Mission to Singapore, Vietnam, and the Philippines.

The purpose of the mission is to introduce U.S. firms and trade associations to Southeast Asia's water infrastructure markets and to assist U.S. companies to find business partners and export their products and services to the region. The mission is intended to include representatives from U.S. companies and U.S. trade associations with members that provide water infrastructure-related materials, products, services, and technology. The trade mission will visit three of Southeast Asia's most dynamic markets and will help participants gain first-hand market knowledge and establish business contacts with senior decision makers. Participating firms will gain market insights, make industry contacts, solidify business strategies, and advance specific projects, with the goal of increasing U.S. exports of products and services to Southeast Asia. The mission will include customized one-on-one business appointments with pre-screened potential buyers, agents, distributors and joint venture partners; meetings with state, local government officials (except in the Philippines) and industry leaders; and networking events.

The mission will help participating firms and trade associations to gain market insights, make industry contacts, solidify business strategies, and advance specific projects, with the goals of creating and strengthening water infrastructure programs, increasing U.S. exports of plumbing products to the region, as well as resolving waste and salinity contamination in Southeast Asia. By participating in an official U.S. industry delegation, U.S. companies will enhance their ability to secure meetings in these countries and gain greater exposure to the region through association with our diplomatic mission.

Schedule
Singapore Thursday July 14 | Trade Mission Participants Arrive in Singapore. Welcome and Country Briefing. Singapore International Water Week (SIWW) site visit (TBC). Regional Briefings. One-on-One business matchmaking appointments. Networking Reception at Ambassador's residence (TBC).
Singapore Friday July 15 | One-on-One business matchmaking appointments.
VietnamSaturday July 16 | Travel to Vietnam (Ho Chi Minh).
Vietnam Sunday July 17 | Travel/Free Day Vietnam (Ho Chi Minh).
Vietnam Monday July 18 | Country Briefing. Meeting with Saigon Water Corporation. Luncheon (no-cost). Site visits. Meeting with City People's Committee.
VietnamTuesday July 19 | One-on-One business matchmaking appointments. Networking Reception at Consul General's residence (TBC).
Philippines Wednesday July 20 | Travel to Manila. Networking Reception.
Philippines Thursday July 21 | Welcome and Country Briefing. One-on-One business matchmaking appointments
Philippines Friday July 22 | Meeting with Asian Development Bank Water Specialists. Site Visit. Mission Wrap-up.
Saturday July 23 | Return Home.

Web site: Please visit our official mission Web site for more information: http://export.gov/trademissions/asiawater

Participation Requirements

All parties interested in participating in the trade mission must complete and submit an application package for consideration by the DOC. All applicants will be evaluated on their ability to meet certain conditions and best satisfy the selection criteria as outlined below. A minimum of 15 and maximum of 20 firms and/or trade associations will be selected to participate in the mission from the applicant pool.

Fees and Expenses

After a firm or trade association has been selected to participate on the mission, a payment to the Department of Commerce in the form of a participation fee is required. Expenses for travel, lodging, meals, and incidentals will be the responsibility of each mission participant. Interpreter and driver services can be arranged for additional cost. Delegation members will be able to take advantage of U.S. Embassy rates for hotel rooms.

Participation fee for small or medium sized enterprises (SME): $3,300.00.

Participation fee for large firms or trade associations: $4,500.00.

Fee for each additional firm representative (large firm or SME/trade organization): $1,000.

Application

All interested firms and associations may register via the following link: https://emenuapps.ita.doc.gov/ePublic/TM/6R0T

Exclusions

The mission fee does not include any personal travel expenses such as lodging, most meals, local ground transportation, and air transportation from the U.S. to the mission sites, between mission sites, and return to the United States. Business visas may be required. Government fees and processing expenses to obtain such visas are also not included in the mission costs. However, the U.S. Department of Commerce will provide instructions to each participant on the procedures required to obtain necessary business visas.

Timeline for Recruitment and Applications

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows. Recruitment for the mission will begin immediately and conclude no later than April 29, 2016. The U.S. Department of Commerce will review applications and inform applicants of selection decisions periodically during the recruitment period beginning October 16, 2016. All applications received subsequent to an evaluation date will be considered at the next evaluation. Applications received after April 29, 2016, will be considered only if space and scheduling constraints permit.

Conditions for Participation

The following criteria will be evaluated in selecting participants:

• Relevance of the company's (or in the case of a trade association/organization, represented companies') business to the mission goals

• Company's (or in the case of a trade association/organization, represented companies') market potential for business in Indonesia, Singapore, Vietnam and the Philippines.

• Provision of adequate information on the company's products and/or services, and communication of the company's (or in the case of a trade association/organization, represented companies') primary objectives.

Diversity of company size and location may also be considered during the review process. Referrals from political organizations and any documents containing references to partisan political activities (including political contributions) will be removed from an applicant's submission and not considered during the selection process.

FOR FURTHER INFORMATION CONTACT: Mr. Gemal Brangman, Project Officer, U.S. Department of Commerce, Washington, DC, Tel: 202-482-3773, Fax: 202-482-9000,Gemal.Brangman@trade.gov.

Frank Spector,
Acting Director, Trade Missions Program.

[FR Doc. 2015-26013 Filed 10-9-15; 8:45 am]

BILLING CODE 3510-DR-P